DEPARTMENT OF JUSTICE

National Institute of Corrections

Solicitation for a Cooperative Agreement—Lesbian, Gay, Bisexual, Transgender, and Intersex Guidance Project

AGENCY: National Institute of Corrections, U.S. Department of Justice.

ACTION: Solicitation for a cooperative agreement.

SUMMARY: The National Institute of Corrections (NIC) is soliciting proposals from organizations, groups, or individuals to enter into a cooperative agreement for a 12-month project period. Work under this agreement will result in a policy guide for corrections practitioners charged with the care and custody of lesbian, gay, bisexual, transgender, and intersex (LGBTI) offenders. In addition to providing guidance in selected operational areas (see Goal 2 and Supplementary Information), the guide will provide: (1) A brief summary of the relevant case law, (2) a description of current terms and definitions relevant to the LGBTI population, including an acknowledgment that these terms evolve and change over time, and (3) a list of topics that should be addressed in initial and ongoing staff training. Informational resources, websites, and sources for additional support should accompany each of these three areas.

It is anticipated that the policy guide will be used by individuals from Federal, State, and local corrections agencies of all sizes and funding levels, including primarily correctional administrators, medical and mental health staff, and training coordinators. Consequently, the guide must provide sufficient rationale and background information where needed, be easy to understand and convenient to use, and provide resources for further study and followup.

Ultimately, the policy guide will allow users to determine best practices for their specific agency or facility; write policy, procedure, and post orders that will allow implementation and monitoring of these practices; and develop staff and offender training and orientation materials.

DATES: Applications must be received by 4 p.m. EDT on Friday, June 11, 2010.

ADDRESSES: Mailed applications must be sent to Director, National Institute of Corrections, 320 First Street, NW., Room 5007, Washington, DC 20534. Applicants are encouraged to use Federal Express, UPS, or similar service to ensure delivery by the due date.

Hand delivered applications should be brought to 500 First Street, NW., Washington, DC 20534. At the front desk, call (202)307-3106, extension 0 for pickup. Faxed applications will not be accepted. The only electronic applications (preferred) that will be accepted can be submitted via http://www.grants.gov.

FOR FURTHER INFORMATION CONTACT: A copy of this announcement can be downloaded from the NIC Web site at http://www.nicic.gov.

All technical or programmatic questions concerning this announcement should be directed to Dee Halley, Correctional Program Specialist, Research and Evaluation Division, National Institute of Corrections. She can be reached by calling 1-800-995-6423 extension 4-0374 or by e-mail at dhalley@bop.gov.

Project Goals: This project consists of five goals, and the recipient of the award under this cooperative agreement will complete each as follows:

Goal 1: Develop a work plan including major milestones, a description of NIC's role in the project, NIC review and approval points, and a project schedule. Note 1: The proposal should describe the major components and tasks of the work plan. Subtasks will be developed as the project progresses. Note 2: The project schedule will be shown by quarters and reflect the number of months from the award date, as opposed to actual dates.

Goal 2: Obtain input from corrections practitioners, the medical and mental health community, and LGBTI advocates. This input should focus on, but not be limited to, problems experienced in managing LGBTI offenders, best practice, the areas for which guidance would be most helpful, and how the guide can be structured for convenient use. In addition to, or in conjunction with the input received under Goal 2, the guide might contain guidance on LGBTI identification and risk assessment, intake and routine search procedures, offender orientation, classification and housing procedures, ongoing monitoring and reclassification procedures, provision of medical and mental health services, and considerations for the investigative process, privacy issues, and the identification of policy and practice with unintended consequences that can negatively affect LGBTI offenders.

Goal 3: Provide for NIC's approval an overview of the guide to include anticipated, measurable short-term and intermediate user outcomes and brief descriptions of the format and structure, major components and their content, and any appendixes, forms, or additional information.

Goal 4: Develop and “test” the first draft of the guide. Included under this goal is the collection and assessment of feedback from potential users and the development of recommended changes for NIC approval.

Goal 5: Revise the guide as indicated and deliver a copy of the product that meets NIC's standards for acceptable submissions. For all awards in which a document will be a deliverable, the awardee must follow the Guidelines for Preparing and Submitting Manuscripts for Publication as found in the “General Guidelines for Cooperative Agreements,” which will be included in the award package.

Document Preparation: Prior to the preparation of the final draft of any document or other media, the awardee must consult with NIC's Writer/Editor concerning the acceptable formats for manuscript submissions and the technical specifications for electronic media. All final documents and other media submitted for posting on the NIC Web site must meet the Federal government's requirement for accessibility (508 PDF or HTML file). The awardee must provide descriptive text interpreting all graphics, photos, graphs, and/or multimedia to be included with or distributed alongside the materials and must provide transcripts for all applicable audio/visual works.

Required Expertise: Applicant organizations and project teams should be able to demonstrate the capacity to accomplish all five project goals and have experience with and/or an understanding of correctional operations, LGBTI populations, and medical, mental health, and legal issues that will affect correctional policy and practice.

Application Requirements: The application should be concisely written, typed double-spaced and reference the NIC Opportunity Number and Title provided in this announcement. The program narrative text is to be limited to 25 double-spaced pages, exclusive of resumes and summaries of experience (do not submit full curriculum vitae). In addition to the program narrative, an application package must include OMB Standard Form 425, Application for Federal Assistance; a cover letter that identifies the audit agency responsible for the applicant's financial accounts as well as the audit period or fiscal year that the applicant operates under (e.g., July 1 through June 30); and an outline of projected costs. The following additional forms must also be included: OMB Standard Form 424A, Budget Information—Non-Construction Programs; OMB Standard Form 424B, Assurances—Non-Construction Programs (all OMB Standard Forms are available at http://www.grants.gov); DOJ/FBOP/NIC Certification Regarding Lobbying, Debarment, Suspension and Other Responsibility Matters; and the Drug-Free Workplace Requirements (available at http://www.nicic.org/Downloads/PDF/certif-frm.pdf.)

Authority: Public Law 93-415.

Funds Available and Budget Considerations: Up to $75,000 is available for this project, but preference will be given to applicants who provide the most efficient solutions in accomplishing the scope of work. Determination will be made based on best value to the Government, not necessarily the lowest bid. Funds may only be used for the activities that are directly related to the project. This project will be a collaborative venture with the NIC Research and Evaluation Division.

Eligibility of Applicants: An eligible applicant is any State or general unit of local government, private agency, educational institution, organization, individual or team with expertise in the described areas. Applicants must have demonstrated ability to implement a project of this size and scope.

Review Considerations: Applications received under this announcement will be subject to the NIC Review Process. The criteria for the evaluation of each application will be as follows:

Programmatic (40%)

Are all of the five project goals adequately discussed? Is there a clear statement of how each project goal will be accomplished, including major tasks that will lead to achieving the goal, the strategies to be employed, required staffing and other required resources? Are there any innovative approaches, techniques, or design aspects proposed that will enhance the project?

Organizational (35%)

Does the proposed project staff possess the skills, knowledge, and expertise necessary to complete the tasks and include all of the elements listed under the project goals and supplementary information? Does the applicant agency, institution, organization, individual or team have the organization capacity to achieve the five project goals? Are the proposed project management and staffing plans realistic and sufficient to complete the project within the nine-month timeframe?

Project Management/Administration (25%)

Does the applicant identify reasonable objectives, milestones, and measures to track progress? If consultants and/or partnerships are proposed, is there a reasonable justification for their inclusion in the project and a clear structure to ensure effective coordination? Is the proposed budget realistic, does it provide sufficient cost detail/narrative, and does it represent good value relative to the anticipated results?

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CCR can be done online at the CCR Web site: http://www.ccr.gov. A CCR Handbook and worksheet can also be reviewed at the Web site.

Number of Awards: One.

NIC Opportunity Number: 10PEI36. This number should appear as a reference line in the cover letter, where indicated on Standard Form 424, and outside of the envelope in which the application is sent.

Catalog of Federal Domestic Assistance Number: 16.602.

Executive Order 12372: This program is not subject to the provisions of Executive Order 12372.

Morris L. Thigpen,
Director, National Institute of Corrections.

[FR Doc. 2010-11661 Filed 5-14-10; 8:45 am]

BILLING CODE 4410-36-P